DEPARTMENT OF COMMERCE

National Oceanic and Atmospheric Administration

RIN 0648-XT75

New England Fishery Management Council; Public Hearings

AGENCY: National Marine Fisheries Service (NMFS), National Oceanic and Atmospheric Administration (NOAA), Commerce.

ACTION: Monkfish Fishery Management Plan Amendment 5; reschedule of public hearings.

SUMMARY: The New England Fishery Management Council (Council) has rescheduled two public hearings to solicit comments on proposals to be included in the Draft Amendment 5 to the Monkfish Fishery Management Plan (FMP).

DATES: Written comments must be received on or before 5 p.m. e.s.t., March 9, 2010. The public hearings will be held on March 8, 2010 and March 9, 2010. For specific dates and times, see SUPPLEMENTARY INFORMATION.

ADDRESSES: The Council will take comments at public meetings in Riverhead, NY and Lakewood, NJ. For specific locations, see SUPPLEMENTARY INFORMATION. Written comments should be sent to Patricia Kurkul, Regional Administrator, National Marine Fisheries Service, 55 Great Republic Drive, Gloucester, MA 01930. Comments may also be sent via fax to (978) 281-9135 or submitted via e-mail to monkamendment5@noaa.gov with “Monkfish Amendment 5 Public Hearing Comments” in the subject line. Requests for copies of the public hearing document and other information should be directed to Paul J. Howard, Executive Director, New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION: The New England Fishery Management Council's Monkfish Committee is holding public hearings for Amendment 5 to the Monkfish Fishery Management Plan (FMP). The primary purpose of this amendment is to address the new requirements of the Magnuson-Stevens Fishery Conservation and Management Reauthorization Act that the Council adopt Annual Catch Limits (ACLs) and Accountability Measures (AMs) and manage the fishery at long-term sustainable levels. According to the Act, these measures must be adopted by 2011. Amendment 5 will also include revised biological and management reference points to bring the FMP into compliance with revised National Standard 1 Guidelines. Further, Amendment 5 will specify total allowable catch targets and associated days-at-sea (DAS) and trip limits for the directed fishery to supplant the current specifications that it adopted for the 2007-2009 fishing years along with an extension provision which will apply for the 2010 fishing year. Amendment 5 contains proposals to make modifications to the FMP to improve the Research Set-Aside (RSA) Program, to minimize bycatch resulting from trip limit overages, to accommodate those vessels fishing in groundfish sectors who would no longer be required to use their allocated groundfish DAS, to require all limited access monkfish vessels to use a VMS when on a monkfish DAS, and to allow the landing of monkfish heads.

The public hearing document, as well as the draft Amendment 5 document incorporating an Environmental Assessment, is available on the Monkfish page of the Council's website (www.nefmc.org) or from the Council office.

After the close of the public comment period, the Monkfish Oversight Committee and Industry Advisory Panel will review the comments and develop recommendations to the New England and Mid-Atlantic Fishery Management Councils on the measures to be submitted as final action for Amendment 5. The Councils will make their decisions in April, 2010 for submission to the National Marine Fisheries Service (NMFS). If approved by NMFS, Amendment 5 will take effect at the start of the 2011 fishing year.

The original public hearings were listed in the January 14, 2010 Federal Register (75 FR 2111) and the new dates, times, locations and telephone numbers of the hearings are as follows:

Monday, March 8, 2010 at 12:30 p.m.-Holiday Inn Express East End, 1707 Old Country Road, Riverhead, NY 11901; telephone: (631) 548-1000.

Tuesday, March 9, 2010 at 9 a.m.-Hilton Garden Inn, 1885 Route 70, Lakewood, NJ 08701; telephone: (732) 262-5232.

Special Accommodations

These hearings are physically accessible to people with physical disabilities. Requests for sign language interpretation or other auxiliary aids should be directed to Paul J. Howard (see ADDRESSES) at least five days prior to the meeting date.

Authority: 16 U.S.C. 1801 et seq.

Dated: March 2, 2010.
Tracey L. Thompson,
Acting Director, Office of Sustainable Fisheries, National Marine Fisheries Service.

[FR Doc. 2010-4733 Filed 3-5-10; 8:45 am]

BILLING CODE 3510-22-S